Title 3—

The President

Executive Order 13571 of April 27, 2011

Streamlining Service Delivery and Improving Customer Service

By the authority vested in me as President by the Constitution and the laws of the United States of America, and in order to improve the quality of service to the public by the Federal Government, it is hereby ordered as follows:

Section 1. Policy. The public deserves competent, efficient, and responsive service from the Federal Government. Executive departments and agencies (agencies) must continuously evaluate their performance in meeting this standard and work to improve it. To this end, Executive Order 12862 (Setting Customer Service Standards), issued on September 11, 1993, requires agencies that provide significant services directly to the public to identify and survey their customers, establish service standards and track performance against those standards, and benchmark customer service performance against the best in business. This effort to “put people first” was an important step. It was reinforced by a Presidential Memorandum for the Heads of Executive Departments and Agencies issued on March 22, 1995 (Improving Customer Service), and a further Presidential Memorandum issued on March 3, 1998 (Conducting “Conversations with America” to Further Improve Customer Service).

However, with advances in technology and service delivery systems in other sectors, the public's expectations of the Government have continued to rise. The Government must keep pace with and even exceed those expectations. Government must also address the need to improve its services, not only to individuals, but also to private and Governmental entities to which the agency directly provides significant services. Government managers must learn from what is working in the private sector and apply these best practices to deliver services better, faster, and at lower cost. Such best practices include increasingly popular lower-cost, self-service options accessed by the Internet or mobile phone and improved processes that deliver services faster and more responsively, reducing the overall need for customer inquiries and complaints. The Federal Government has a responsibility to streamline and make more efficient its service delivery to better serve the public.

Sec. 2. Agency Customer Service Plans and Activities. Within 180 days of the date of this order, each agency shall develop, in consultation with the Office of Management and Budget (OMB), a Customer Service Plan (plan) to address how the agency will provide services in a manner that seeks to streamline service delivery and improve the experience of its customers. As used in this order, the term “customer” refers to any individual or to any entity, including a business, tribal, State or local government, or other agency, to which the agency directly provides significant services. The plan shall set forth the agency's approach, intended benefits, and an implementation timeline for the following actions:

(a) establishing one major initiative (signature initiative) that will use technology to improve the customer experience;

(b) establishing mechanisms to solicit customer feedback on Government services and using such feedback regularly to make service improvements;

(c) setting clear customer service standards and expectations, including, where appropriate, performance goals for customer service required by the GPRA (Government Performance and Results) Modernization Act of 2010 (Public Law 111-352);

(d) improving the customer experience by adopting proven customer service best practices and coordinating across service channels (such as online, phone, in-person, and mail services);

(e) streamlining agency processes to reduce costs and accelerate delivery, while reducing the need for customer calls and inquiries; and

(f) identifying ways to use innovative technologies to accomplish the customer service activities above, thereby lowering costs, decreasing service delivery times, and improving the customer experience.

Sec. 3. Publication of Agency Customer Service Plans. Each agency shall publish its plan on its Open Government web page.

Sec. 4. Assistance in Implementation. In consultation with the heads of executive departments and agencies, the Chief Performance Officer, who also serves as the Deputy Director for Management of the OMB, shall develop guidance for implementing the activities outlined in this order. Such guidance shall include, among other things, the nature and scope of services to which the order's requirements will apply. The Office of Management and Budget, the General Services Administration, and the Office of Science and Technology Policy shall assist and support agencies in developing customer service standards and plans, online posting of customer service metrics and best practices, expediting review for customer feedback mechanisms under the Paperwork Reduction Act (44 U.S.C. 3501 et seq.), improving the design and management of agency websites providing services or information to the public in compliance with section 508 of the Rehabilitation Act (29 U.S.C. 794d), and using innovative technologies to improve customer service at lower costs.

Sec. 5. Independent Agencies. Independent agencies are requested to adhere to this order.

Sec. 6. Privileged Information. Nothing in this order shall compel or authorize the disclosure of privileged information, law enforcement information, information affecting national security, or information the disclosure of which is prohibited by law.

Sec. 7. General Provisions. (a) Nothing in this order shall be construed to impair or otherwise affect:

(i) authority granted by law to an executive department, agency, or the head thereof; or

(ii) functions of the Director of the OMB relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

April 27, 2011.

[FR Doc. 2011-10732

Filed 4-29-11; 8:45 am]

Billing code 3195-W1-P